DEPARTMENT OF ENERGY

Federal Energy Regulatory Commission

[Docket No. RP14-169-000]

Encana Marketing (USA) Inc. v. Rockies Express Pipeline LLC; Notice of Complaint

Take notice that on November 15, 2013, pursuant to Rule 206 of the Rules of Practice and Procedures of the Federal Energy Regulatory Commission (Commission), 18 CFR 385.206, Encana Marketing (USA) Inc. (Encana Marketing or Complainant), filed a complaint against Rockies Express Pipeline LLC (Rockies Express or Respondent), alleging that Rockies Express has unlawfully denied Encana Marketing's request to make changes to the primary delivery points under its existing firm transportation agreement in violation of Rockies Express' FERC Gas Tariff, Third Revised Volume No. 1, section 4(c) of the Natural Gas Act, 15 U.S.C. 717c(c), and sections 154.1(b) and 154.204 of the Commission's Regulations, 18 CFR 154.1(b), 154.204 (2013).

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 5, 2013.

Dated: November 15, 2013.
Nathaniel J. Davis, Sr.,
Deputy Secretary.

[FR Doc. 2013-28017 Filed 11-21-13; 8:45 am]

BILLING CODE 6717-01-P